DEPARTMENT OF HEALTH AND HUMAN SERVICES

Food and Drug Administration

Workshop to Discuss Development of a Women's Health Information Sharing Network

AGENCY: Food and Drug Administration, HHS.

ACTION: Notice of workshop.

The Food and Drug Administration (FDA), Office of Women's Health is announcing a workshop to develop a women's health information sharing network, with assistance from the FDA Office of Women's Health, and to discuss opportunities for national nursing/nurse practitioner organizations to share information about their women's health education activities. Representatives of national community-based nursing and nurse practitioner organizations are invited. A continental breakfast will be provided.

Date and Time: The workshop will be held on September 18, 2007, from 8:30 a.m. to 12 p.m.

Location: The workshop will be held at the Association of Women's Health, Obstetric and Neonatal Nurses Association (AWHONN), 2000 L. St., NW., Suite 740, Washington, DC 20036.

Contact Person: Susana Perry, Food and Drug Administration, Office of Women's Health (HF-8), 5600 Fishers Lane, Rm. 16-65, Rockville, MD 20857, 301-827-0350, FAX: 301-827-9194, e-mail: susana.perry@fda.hhs.gov.

Registration: There is no fee, but preregistration is required.

Seating is limited. If you require special accommodations due to a disability, please contact Susana Perry at least 7 days in advance (September 11, 2007).

Dated: August 8, 2007.
Jeffrey Shuren,
Assistant Commissioner for Policy.

[FR Doc. E7-15944 Filed 8-14-07; 8:45 am]

BILLING CODE 4160-01-S